SOCIAL SECURITY ADMINISTRATION

[Docket No. SSA 2023-0017]

Notice of Verification Transaction Fee Increase for Consent Based Social Security Number Verification Service

AGENCY: Social Security Administration.

ACTION: Notice of fee increase.

SUMMARY: The Social Security Administration (SSA) is announcing a fee increase for the Consent Based Social Security Number (SSN) Verification (CBSV) service. We provide a fee-based SSN verification service to enrolled private businesses and government agencies who obtain a valid, signed consent form from the Social Security number holder.

DATES: Applicability date for fee increase: The verification transaction fee increase will go into effect on October 1, 2023.

FOR FURTHER INFORMATION CONTACT: Vivian Adebayo, Branch Chief, Office of Data Exchange, Policy Publications, and International Negotiations, Social Security Administration, 6401 Security Boulevard, Baltimore, Maryland 21235-6401, (866) 395-8801, email CBSV@ssa.gov.

For information on eligibility or filing for benefits, call SSA's national toll-free number, 1-800-772-1213 or TTY 1-800-325-0778, or visit SSA's internet site, Social Security Online, at https://www.socialsecurity.gov.

SUPPLEMENTARY INFORMATION: Based on the consent forms, we verify the number holders' SSNs for the requesting party. The Privacy Act of 1974 (5 U.S.C. 552a(b)), section 1106 of the Social Security Act (42 U.S.C. 1306) and our regulation at 20 CFR 401.100, establish the legal authority for us to provide SSN verifications to third party requesters based on the written consent of the subject of the record. The CBSV process provides the business community and other government entities with consent-based SSN verifications in high volume. We developed CBSV as a user-friendly, internet-based application with safeguards that will protect the public's information. In addition to the benefit of providing high volume, centralized SSN verification services to the business community in a secure manner, CBSV provides us with cost and workload management benefits.

New Information: Currently, to use CBSV, interested parties must pay a one-time non-refundable enrollment fee of $5,000 and pay a fee of $1.00 per SSN verification transaction in advance of services. This $1.00 fee has been in place since fiscal year (FY) 2017. We calculate our costs periodically for providing CBSV services and adjust the fees as needed. We will notify our customers who currently use the service and allow them to cancel or continue using the service at the new transaction fee. Based on the most recent cost and transaction analysis, we will adjust the FY 2024 fee to $2.25 per SSN verification transaction in advance of services. New customers will still be responsible for the one-time $5,000 enrollment fee.

The primary reason for the fee increase is the declining volume in CBSV services. CBSV transactional volumes have decreased from 3.1 million transactions in FY 2021 to 2.1 million transactions in FY 2022. For FY 2023, we are projecting less than 1 million transactions based on current usage. Due to the significant decline in transactions, the per transaction costs are increasing. We will reevaluate transactional volumes in FY 2024. If the transaction volumes continue to decline, we will issue a subsequent notice to increase the CBSV fees again during FY 2024. We note that any unused advances and any fees collected in excess of our actual costs per transactions each year for CBSV services are refunded after the end of the fiscal year.

Stephen Evangelista,
Acting Deputy Commissioner, Office of Retirement and Disability Policy, Social Security Administration.

[FR Doc. 2023-17146 Filed 8-9-23; 8:45 am]

BILLING CODE 4191-02-P